DEPARTMENT OF COMMERCE

National Oceanic and Atmospheric Administration

RIN 0648-XL21

Marine Mammals; File No. 633-1763

AGENCY: National Marine Fisheries Service (NMFS), National Oceanic and Atmospheric Administration (NOAA), Commerce.

ACTION: Notice; receipt of application for amendment.

SUMMARY: Notice is hereby given that the Center for Coastal Studies (CCS) has requested an amendment to scientific research Permit No. 633-1763.

DATES: Written, telefaxed, or e-mail comments must be received on or before November 17, 2008.

ADDRESSES: The application and related documents are available for review by selecting “Records Open for Public Comment” from the Features box on the Applications and Permits for Protected Species (APPS) home page, https://apps.nmfs.noaa.gov/index.cfm, and then selecting File No. 633-1763 from the list of available applications. These documents are also available upon written request or by appointment in the following office(s):

Permits, Conservation and Education Division, Office of Protected Resources, NMFS, 1315 East-West Highway, Room 13705, Silver Spring, MD 20910; phone (301)713-2289; fax (301)427-2521.

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 633-1763.

FOR FURTHER INFORMATION CONTACT: Kristy Beard or Kate Swails, (301)713-2289.

SUPPLEMENTARY INFORMATION: The subject amendment to Permit No. 633-1763, issued on April 21, 2005 (70 FR 22299) is requested under the authority of the Marine Mammal Protection Act of 1972, as amended (16 U.S.C. 1361 et seq.), the regulations governing the taking and importing of marine mammals (50 CFR part 216), and the Endangered Species Act of 1973, as amended (16 U.S.C. 1531 et seq.). Permit No. 633-1763 authorizes the permit holder to harass North Atlantic right whales (Eubalaena glacialis) during close approaches for aerial and vessel surveys with associated photo-identification and behavioral observations in the Gulf of Maine, Cape Cod Bay, Great South Channel, and Georgia Bight, and the collection and export of sloughed right whale skin. The original application submitted by CCS included a request to collect biopsy samples from North Atlantic right whales. At the time of permit issuance, takes for biopsy samples were not authorized. NMFS is now reviewing the biopsy sample portion of the request as an amendment to Permit No. 633-1763. CCS requests authorization to biopsy sample up to 30 North Atlantic right whales annually during close vessel approaches for photo-identification and behavioral observation; authorization is requested to biopsy up to 10 of these right whales two times to contribute to individual whale's health assessments. This work would continue long-term population monitoring to determine status and trends of this species in the North Atlantic. The amendment would be valid until the permit expires on May 1, 2010.

Concurrent with the publication of this notice in the Federal Register, NMFS is forwarding copies of this application to the Marine Mammal Commission and its Committee of Scientific Advisors.

Dated: October 9, 2008.
P. Michael Payne,
Chief, Permits, Conservation and Education Division, Office of Protected Resources, National Marine Fisheries Service.

[FR Doc. E8-24597 Filed 10-15-08; 8:45 am]

BILLING CODE 3510-22-S